DEPARTMENT OF THE INTERIOR

Bureau of Land Management

[LLORW04000.L16100000.DR0000.LXSSH0930000.223L1109AF; 4500164887; HAG22-0024]

Notice of Availability of the Record of Decision and Approved Resource Management Plan for the San Juan Islands National Monument, Washington

AGENCY: Bureau of Land Management, Interior.

ACTION: Notice of availability.

SUMMARY: The Bureau of Land Management (BLM) announces the availability of the Record of Decision (ROD) for the approved Resource Management Plan (RMP) for the San Juan Islands National Monument (SJINM), located in San Juan County in Washington State. The BLM Oregon/Washington State Director signed the ROD on January 26, 2023, which constitutes the decision of the BLM and makes the approved RMP effective immediately.

DATES: The Oregon/Washington State Director signed the ROD on January 26, 2023.

ADDRESSES: The ROD/approved RMP is available online at https://go.usa.gov/xucJE. Printed copies of the ROD/approved RMP are available for public inspection at the following locations:

• BLM Lopez Island Office, 37 Washburn Place, Lopez Island, WA 98261;

• BLM Spokane District Office, 1103 North Fancher Road, Spokane Valley, WA 99212;

• BLM Oregon/Washington State Office, 1220 SW 3rd Avenue, Portland, OR 97204.

Printed copies can be provided upon request by contacting Kurt Pindel (see FOR FURTHER INFORMATION CONTACT below).

A copy of the Protest Resolution Report is available at: https://www.blm.gov/programs/planning-and-nepa/public-participation/protest-resolution-reports.

FOR FURTHER INFORMATION CONTACT: Kurt Pindel, Spokane District Manager, telephone (208) 769-5040; address BLM Spokane Office, 1103 North Fancher Road, Spokane Valley, WA 99212; email kpindel@blm.gov. Individuals in the United States who are deaf, deafblind, hard of hearing, or have a speech disability may dial 711 (TTY, TDD, or TeleBraille) to access telecommunications relay services for contacting Mr. Pindel. Individuals outside the United States should use the relay services offered within their country to make international calls to the point-of-contact in the United States.

SUPPLEMENTARY INFORMATION: The SJINM RMP provides long-term management for approximately 1,000 acres of BLM-administered public lands. The approved RMP describes the goals, objectives, and management actions for the objects of historic and scientific interest identified in Presidential Proclamation 8947, which designated the area as a National Monument in 2013.

The approved RMP provides an effective approach to protecting the objects and values for which the SJINM was designated while still providing the public with opportunities to observe, study, and enjoy these public lands. The approved RMP is consistent with all applicable laws, regulations, and policies, including Presidential Proclamation 8947 and the Federal Land Policy and Management Act. The BLM expects implementation of the approved RMP to improve resource conditions and result in more consistent management of recreation and public access.

In order to meet the purpose and need of the planning effort and the mandate of Presidential Proclamation 8947, the BLM has developed allowable and prohibited use decisions for public lands within the SJINM. As with all decisions in the approved RMP, the BLM has considered input from consulting Tribes, cooperating agencies, the Office of the Governor of Washington, the Monument Advisory Committee, and the public. Based on the consideration of this input, the BLM made two changes and one clarification to the allowable uses that were included in the proposed RMP; all three of these modifications were analyzed in the alternatives considered by the BLM in both the draft RMP/Environmental Impact Statement (EIS) and the proposed RMP/final EIS. Specifically, the approved RMP prohibits dispersed camping and removed small BLM-administered rocks from inclusion in a recreation management area. Access to these rocks will be limited to authorized educational, spiritual, or scientific purposes. The approved RMP also includes clarified language related to the proposed RMP's prohibition of recreational target shooting to ensure that lawful hunting practices will continue to be allowed on these public lands. These changes do not constitute significant changes and therefore do not require that the BLM provide the public with further opportunity to comment, as discussed in 43 CFR 1610.2(f)(5) and 1610.5-1(b). The ROD summarizes all clarifications and modifications made between the publication of the proposed RMP and the approved RMP. There are no appealable decisions included in the ROD.

The approved RMP includes allowable and prohibited use decisions that the BLM believes will protect the cultural and ecological values for which the SJINM was designated, while also maintaining the recreational activities that inspired the public to advocate for the designation of the SJINM. Recreational opportunities under the approved RMP include hiking, hunting, designated site camping, trail-based equestrian use, and road-based equestrian and bicycling use. Based on current visitor use patterns and input provided on the draft and proposed RMPs, the approved RMP's restrictions on dispersed camping, target shooting, and access to rocks are not expected to substantially impact any ongoing recreational activities taking place within the monument.

The BLM developed the SJINM RMP with extensive stakeholder input throughout the planning process. The BLM regularly communicated with, and solicited input from, the public, non-governmental organizations, and Tribal, Federal, State, and local governments.

The BLM provided the proposed RMP/final EIS on November 22, 2019, (84 FR 64557) for a 30-day public protest period and received 236 protest letters, including 158 unique protest letters and 78 form letters. The BLM Director resolved all protests. Responses to protest issues were compiled and documented in a Protest Resolution Report (see ADDRESSES).

The BLM provided the proposed RMP/final EIS to the Governor of Washington for a 60-day Governor's consistency review. On January 15, 2020, the Office of the Governor of Washington identified some concerns and potential inconsistencies between the proposed RMP and State and local plans, policies, and programs. The BLM made all requested changes that were within the scope of the RMP. These changes were all related to recreation management under the RMP and were within the range of alternatives analyzed in the EIS. The changes recommended by the Governor were all raised during the public participation process and therefore did not require the BLM to provide the public with an opportunity to comment on the recommendations, as provided for at 43 CFR 1610.3-2(e).

(Authority: 40 CFR 1506.6; 43 CFR 1610.5-1)

Barry R. Bushue,
State Director, Oregon/Washington.

[FR Doc. 2023-01971 Filed 1-30-23; 8:45 am]

BILLING CODE 4310-33-P